DEPARTMENT OF LABOR

Employment and Training Administration

[TA-W-50,430]

L'Art De La Mode, Inc. Carlstadt, New Jersey; Notice of Termination of Investigation

Pursuant to section 221 of the Trade Act of 1974, as amended, an investigation was initiated on January 2, 2003 in response to a worker petition filed by a state workforce agency on behalf of workers at L'Art De La Mode, Inc., Carlstadt, New Jersey.

The petitioner has requested that the petition be withdrawn. Consequently, further investigation would serve no useful purpose and the investigation has been terminated.

Signed at Washington, DC, this 24th day of January 2003.
Richard Church,
Certifying Officer, Division of Trade Adjustment Assistance.

[FR Doc. 03-2843 Filed 2-5-03; 8:45 am]

BILLING CODE 4510-30-P